DEPARTMENT OF ENERGY

Federal Energy Regulatory Commission

Combined Notice of Filings

January 4, 2010.

Take notice that the Commission has received the following Natural Gas Pipeline Rate and Refund Report filings:

Docket Numbers: RP10-269-000.

Applicants: Rockies Express Pipeline LLC.

Description: Rockies Express Pipeline LLC submits Original Sheet No. 11C to FERC Gas Tariff, Second Revised Volume No. 1.

Filed Date: 12/28/2009.

Accession Number: 20091229-0057.

Comment Date: 5 p.m. Eastern Time on Monday, January 11, 2010.

Docket Numbers: RP10-270-000.

Applicants: Discovery Gas Transmission LLC,

Description: Discovery Gas Transmission LLC submits for filing its Fourth Revised Sheet 23, to become effective 5/1/09.

Filed Date: 12/29/2009.

Accession Number: 20091230-0050.

Comment Date: 5 p.m. Eastern Time on Monday, January 11, 2010.

Docket Numbers: RP10-271-000.

Applicants: Southern LNG Inc.

Description: Southern LNG, Inc submits for filing Third Revised Sheet 1 et al. to FERC Gas Tariff, Original Volume 1 to become effective 3/1/10.

Filed Date: 12/29/2009.

Accession Number: 20091230-0051.

Comment Date: 5 p.m. Eastern Time on Monday, January 11, 2010.

Docket Numbers: RP10-272-000.

Applicants: Millennium Pipeline Company, LLC.

Description: Millennium Pipeline Company, LLC submits Third Revised Sheet 51 et al. to FERC Gas Tariff, Original Volume 1.

Filed Date: 12/30/2009.

Accession Number: 20091230-0049.

Comment Date: 5 p.m. Eastern Time on Monday, January 11, 2010.

Docket Numbers: RP10-273-000.

Applicants: EnergyMark, LLC.

Description: Constellation NewEnergy—Gas Division, LLC et al. submits request for a temporary waiver of FERC's capacity release policies and regulations in order facilitate the acquisition.

Filed Date: 12/29/2009.

Accession Number: 20091230-0048.

Comment Date: 5 p.m.Eastern Time on Monday, January 11, 2010.

Docket Numbers: RP10-274-000.

Applicants: Wyoming Interstate Company.

Description: Wyoming Interstate Company, Ltd submits for filing and acceptance a Fourteenth Revised Sheet 1 to its FERC Gas Tariff, Second Revised Volume 2.

Filed Date: 12/29/2009.

Accession Number: 20091230-0047.

Comment Date: 5 p.m. Eastern Time on Monday, January 11, 2010.

Docket Numbers: RP10-275-000.

Applicants: Wyoming Interstate Company, Ltd.

Description: Wyoming Interstate Company, Ltd submits for filing and acceptance a firm transportation service agreement with Devon Energy Production Company, LP.

Filed Date: 12/29/2009.

Accession Number: 20091230-0046.

Comment Date: 5 p.m. Eastern Time on Monday, January 11, 2010.

Docket Numbers: RP10-276-000.

Applicants: Iroquois Gas Transmission System, L.P.

Description: Iroquois Gas Transmission System, L.P. Measurement Variance/Fuel Use Factors utilized by Iroquois during July 1, 2009-December 31, 2009.

Filed Date: 12/30/2009.

Accession Number: 20091230-5088.

Comment Date: 5 p.m. Eastern Time on Monday, January 11, 2010.

Docket Numbers: RP10-277-000.

Applicants: National Fuel Gas Supply Corporation.

Description: National Fuel Gas Supply Corporation submits Non-conforming Service Agreements to FERC Gas Tariff, Fourth Revised Volume 2 with Crown Energy Services, Inc et al., effective 1/29/10.

Filed Date: 12/30/2009.

Accession Number: 20091231-0024.

Comment Date: 5 p.m. Eastern Time on Monday, January 11, 2010.

Docket Numbers: RP10-278-000.

Applicants: Texas Eastern Transmission, LP

Description: Texas Eastern Transmission, LP submits Thirty-Third Revised Sheet 25 et al., to FERC Gas Tariff, Seventh Revised Volume 1 and First Revised Volume 2, to be effective 2/1/10.

Filed Date: 12/30/2009.

Accession Number: 20091231-0025.

Comment Date: 5 p.m. Eastern Time on Monday, January 11, 2010.

Docket Numbers: RP10-279-000.

Applicants: Florida Gas Transmission Company, LLC.

Description: Florida Gas Transmission Company, LLC submits the Annual Accounting Report which details the activity of FGT's Cash-Out Mechanism.

Filed Date: 12/30/2009.

Accession Number: 20091231-0026.

Comment Date: 5 p.m. Eastern Time on Monday, January 11, 2010.

Docket Numbers: RP10-280-000.

Applicants: Rockies Express Pipeline LLC.

Description: Rockies Express Pipeline, LLC submits Original Sheet 11D to FERC Gas Tariff, Second Revised Volume 1, to be effective 1/1/10.

Filed Date: 12/30/2009.

Accession Number: 20091231-0027.

Comment Date: 5 p.m. Eastern Time on Monday, January 11, 2010.

Docket Numbers: RP10-281-000.

Applicants: Gulf South Pipeline Company, LP.

Description: Gulf South Pipeline Company, LP submits amendment to a negotiated rate letter agreement re the East Texas to Mississippi Expansion Project.

Filed Date: 12/30/2009.

Accession Number: 20091231-0028.

Comment Date: 5 p.m. Eastern Time on Monday, January 11, 2010.

Docket Numbers: RP10-282-000.

Applicants: Kinder Morgan Interstate Gas Trans. LLC.

Description: Kinder Morgan Interstate Gas Transmission, LLC submits Twenty Sixth Revised Sheet 4G.01 et al. to FERC Gas Tariff, Fourth Revised Volume 1A, to be effective 1/1/10.

Filed Date: 12/30/2009.

Accession Number: 20091231-0029.

Comment Date: 5 p.m. Eastern Time on Monday, January 11, 2010.

Docket Numbers: RP10-283-000.

Applicants: Northern Natural Gas Company.

Description: Northern Natural Gas Company submits 14 Revised Sheet 66B.35 to FERC Gas Tariff, Fifth Revised Volume 1, to be effective 1/1/10.

Filed Date: 12/30/2009.

Accession Number: 20091231-0030.

Comment Date: 5 p.m. Eastern Time on Monday, January 11, 2010.

Docket Numbers: RP10-284-000.

Applicants: Millennium Pipeline Company, LLC.

Description: Millennium Pipeline Company, LLC submits the Penalty Revenue Crediting Report to FERC Gas Tariff, Original Volume 1.

Filed Date: 12/30/2009.

Accession Number: 20091231-0031.

Comment Date: 5 p.m. Eastern Time on Monday, January 11, 2010.

Docket Numbers: RP10-285-000.

Applicants: Sea Robin Pipeline Company, LLC.

Description: Sea Robin Pipeline Company, LLC submits the Annual Flowthrough Crediting Mechanism to FERC Gas Tariff, Second Revised Volume 1.

Filed Date: 12/30/2009.

Accession Number: 20091231-0032.

Comment Date: 5 p.m. Eastern Time on Monday, January 11, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-463 Filed 1-12-10; 8:45 am]

BILLING CODE 6717-01-P